DEPARTMENT OF JUSTICE

[OMB Number 1122-0012]

Agency Information Collection Activities; Proposed eCollection eComments Requested; Extension of a Previously Approved Collection; Semi Annual Progress Report for Education, Training and Enhanced Services To End Violence Against and Abuse of Women With Disabilities Grant Program (Disability Grant Program)

AGENCY: Office on Violence Against Women, Department of Justice.

ACTION: 60-Day notice.

SUMMARY: The Office on Violence Against Women, Department of Justice (DOJ), will be submitting the following information collection request to the Office of Management and Budget (OMB) for review and approval in accordance with the Paperwork Reduction Act of 1995.

DATES: Comments are encouraged and will be accepted for 60 days until January 31, 2025.

FOR FURTHER INFORMATION CONTACT: If you have additional comments especially on the estimated public burden or associated response time, suggestions, or need a copy of the proposed information collection instrument with instructions or additional information, please contact Catherine Poston, Office on Violence Against Women, at 202-514-5430 or Catherine.poston@usdoj.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The Grants for Training and Services to End Violence Against Individuals with Disabilities and Deaf People Program (Disability Grant Program) seeks to create sustainable change within and between organizations that improves the response to individuals with disabilities and Deaf individuals who are victims of sexual assault, domestic violence, dating violence, and stalking and to hold perpetrators of such crimes accountable. The program was created by Congress to address the pressing need to focus on sexual assault, domestic violence, dating violence, and stalking against individuals with disabilities and Deaf individuals due to the proliferation of such crimes.

Disability Grant Program funds are used to establish and strengthen multidisciplinary collaborative relationships; increase organizational capacity to provide accessible, safe, and effective services to individuals with disabilities and Deaf individuals who are victims of violence and abuse; identify needs within the grantee's organization and/or service area; and develop a plan to address those identified needs that builds a strong foundation for future work.

Eligible applicants are limited to: States; units of local government; Indian Tribal governments or Tribal organizations; and victim service providers, such as State or Tribal domestic violence or sexual assault coalitions or nonprofit, nongovernmental organizations serving individuals with disabilities.

Overview of This Information Collection

1. Type of Information Collection: Extension of a previously approved collection.

2. The Title of the Form/Collection: Semi annual Progress Report for Education, Training and Enhanced Services to End Violence Against and Abuse of Women with Disabilities Grant Program.

3. The agency form number, if any, and the applicable component of the Department sponsoring the collection: 1122-0012.

4. Affected public who will be asked or required to respond, as well as the obligation to respond: The affected public includes the approximately 18 grantees of the Disability Grant Program. Grantees include States, units of local government, Indian Tribal governments or Tribal organizations and non-governmental private organizations. The goal of this program is to build the capacity of such jurisdictions to address such violence against individuals with disabilities through the creation of multi-disciplinary teams. Disability Grant Program recipients will provide training, consultation, and information on domestic violence, dating violence, stalking, and sexual assault against individuals with disabilities and enhance direct services to such individuals.

5. An estimate of the total number of respondents and the amount of time estimated for an average respondent to respond: It is estimated that it will take the approximately 18 respondents (grantees from the Disability Grant Program) approximately one hour to complete a semi-annual progress report. The semi-annual progress report is divided into sections that pertain to the different types of grantee activities.

6. An estimate of the total annual burden (in hours) associated with the collection: The total annual hour burden to complete the data collection forms is 36 hours, that is 18 grantees completing a form twice a year with an estimated completion time for the form being one hour.

7. The total annual hour burden to complete the data collection forms is 36 hours, that is 18 grantees completing a form twice a year with an estimated completion time for the form being one hour.

8. An estimate of the total annual cost burden associated with the collection, if applicable: The annualized costs to the Federal Government resulting from the OVW staff review of the progress reports submitted by grantees are estimated to be $2016.

Total Burden Hours
Activity | Number of respondents | Frequency semiannually | Total annual responses | Time per response (hours) | Total annual burden (hours)
Progress Report Form | 18 | 2 | 36 | 1 | 36
Unduplicated Totals | 18 |  | 36 |  | 36

If additional information is required contact: Darwin Arceo, Department Clearance Officer, United States Department of Justice, Justice Management Division, Policy and Planning Staff, Two Constitution Square, 145 N Street NE, 4W-218, Washington, DC.

Dated: November 26, 2024.
Darwin Arceo,
Department Clearance Officer for PRA, U.S. Department of Justice.

[FR Doc. 2024-28176 Filed 11-29-24; 8:45 am]

BILLING CODE 4410-FX-P